FEDERAL COMMUNICATIONS COMMISSION

Public Information Collection(s) Requirement Submitted to OMB for Emergency Review and Approval

August 25, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 29, 2003. If you anticipate that you will be submitting comments, but find it difficult to do so within the period of time allowed by this notice, you should advise the contacts listed below as soon as possible.

ADDRESSES: Direct all PRA comments to Kim A. Johnson, Office of Management and Budget, Room 10236 NEOB, Washington, DC 20503, (202) 395-7232, or via fax at 202-395-5167, or via Internet at Kim_A._Johnson@omb.eop.gov; and Judith B. Herman, Federal Communications Commission, Room 1-C804, 445 12th Street, SW., Washington, DC 20554, or via Internet to Judith-B.Herman@fcc.gov.

FOR FURTHER INFORMATION CONTACT: For additional information or copies of the information collections contact Judith B. Herman at 202-418-0214 or via Internet at Judith-B.Herman@fcc.gov.

SUPPLEMENTARY INFORMATION: The Commission has requested emergency OMB processing review of this new information collection with an approval by September 5, 2003.

OMB Control Number: 3060-XXXX.

Title: Review of the Section 251 Unbundling Obligations of Incumbent Local Exchange Carriers, CC Docket Nos. 01-338, 96-98, and 98-147, Report and Order and Order on Remand and Further NPRM.

Form No.: N/A.

Type of Review: New collection.

Respondents: Business or other for-profit and not-for-profit institutions.

Number of Respondents: 2,369.

Estimated Time Per Response: 8-40 hours.

Frequency of Response: On occasion reporting requirement, third party disclosure requirement and recordkeeping requirement.

Total Annual Burden: 74,120 hours.

Total Annual Cost: $5,275,000.

Needs and Uses: In the Report and Order on Remand and Further Notice of Proposed Rulemaking, issued in FCC 03-36, the Commission adopts new rules to govern the availability of unbundled network elements to competitive local exchange carriers from incumbent local exchange carriers. The Commission amended its standard for determining which network elements must be provided on an unbundled basis and determines which network elements meet this standard. The Commission establishes eligibility criteria for certain combination of unbundled network elements. The Commission allows state regulatory commissions to initiate proceedings to make additional determinations consistent with specific Commission guidance.

Federal Communications Commission.
William F. Caton,
Deputy Secretary.

[FR Doc. 03-22171 Filed 8-28-03; 8:45 am]

BILLING CODE 6712-01-P